DEPARTMENT OF STATE

[Public Notice 5421]

Asia-Pacific Partnership on Clean Development and Climate; Notice of Public Meeting

The U.S. Department of State invites interested parties to attend a public meeting designed to share information on the outcomes of the meeting of the Asia-Pacific Partnership on Clean Development and Climate held in Berkeley on April 18-21, 2006.

Background

Australia, China, India, Japan, Korea, and the United States have established the Asia-Pacific Partnership on Clean Development and Climate to accelerate the development and deployment of clean energy technologies in their countries. The Partner countries have decided to work together and with their private sectors on energy security, national air pollution reduction, and climate change in ways that promote sustainable economic growth and poverty reduction. The Partnership involves countries that account for about half of the world's population and more than half of the world's economy and energy use.

The Partnership focuses on voluntary practical measures taken by these six countries in the Asia-Pacific region to create new investment opportunities, build local capacity, and remove barriers to the introduction of clean, more efficient technologies. It brings together key experts from the public and private sectors.

The First Ministerial meeting of the Asia-Pacific Partnership took place in Sydney, Australia, January 11-12, 2006. At that meeting, the ministers prepared a Partnership Communiqué, Charter, and Work Plan that established eight public-private sector Task Forces. Partner countries subsequently met in Berkeley, California from April 18—21, 2006, where they crafted guidelines that establish how the Partnership's eight task forces will operate and develop action plans. The Task Forces began discussing action plans that will guide the Partnership's concrete actions to improve efficiency, reduce pollution, and reduce greenhouse gas emissions in each sector.

For more information, please go to: http://www.asiapacificpartnership.org. If you would like to be notified in advance of future public outreach meetings on the Asia-Pacific Partnership, please e-mail your name, affiliation, phone number, and e-mail address to: APP_ASG@state.gov.

Public Meeting Date

The U.S. Department of State would like to extend an invitation to interested parties to attend a public meeting on June 5, 2006 from 3 p.m.—5 p.m. The public meeting is intended as a forum to share information and address questions concerning the Asia-Pacific Partnership meeting held in Berkeley earlier this year.

The meeting will be located in room 1912 of the Harry S. Truman Building of the Department of State, located at 2201 C St., NW., Washington, DC 20520. The entrance is located on C St. between 21st St and 23rd St., NW. The meeting is held in a Federal government building; therefore, Federal security measures are applicable. In planning your arrival time, we recommend allowing at least 30 minutes of additional time to clear security. In order to gain access to the building, participants must bring government-issued photo identification. Persons without proper identification will be denied access. All visitors must be escorted inside the building. Please contact Denise Goode at goodedx@state.gov with your full name, date of birth, and identification number (either social security number or driver's license) by noon on June 2, 2006, if you plan on attending.

Dated: May 22, 2006.
Daniel A. Reifsnyder
Acting Deputy Assistant Secretary for Environment, Department of State.

[FR Doc. E6-8256 Filed 5-26-06; 8:45 am]

BILLING CODE 4710-09-P